DEPARTMENT OF HOMELAND SECURITY

Coast Guard

33 CFR Part 117

[Docket No. USCG-2011-1102]

Drawbridge Operation Regulation; Middle Branch of the Patapsco River, Baltimore, MD

AGENCY: Coast Guard, DHS.

ACTION: Notice of temporary deviation from regulations.

SUMMARY: The Commander, Fifth Coast Guard District, has issued a temporary deviation from the regulation governing the operation of the Hanover Street S2 bridge across the Middle Branch of the Patapsco River, mile 12.0, at Baltimore, MD. The deviation is necessary to accommodate repairs to the bridge and will allow the bridge to open on signal if at least four hours of notice is given except that the drawbridge need not open during the morning and evening rush hours.

DATES: This deviation is effective from 12:01 a.m. on January 9, 2012 through 11:59 p.m. July 6, 2012.

ADDRESSES: Documents mentioned in this preamble as being available in the docket are part of docket USCG-2011-1102 and are available online by going to http://www.regulations.gov, inserting USCG-2011-1102 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Lindsey Middleton, Bridge Management Specialist, Coast Guard; telephone (757) 398-6629, email Lindsey.R.Middleton@uscg.mil. If you have questions on viewing the docket, call Renee V. Wright, Program Manager, Docket Operations, telephone (202) 366-9826.

SUPPLEMENTARY INFORMATION: The City of Baltimore has requested a temporary deviation from the current operating regulation of the Hannover Street S2 bridge across the Middle Branch of the Patapsco River, mile 12.0, at Baltimore, MD. The requested deviation is necessary to accommodate gear motor and gate repairs on the bridge. To facilitate this work, the draw of the bridge will open on signal if at least four hours of notice is given except that from 6:30 a.m. to 9:30 a.m. and from 4 p.m. to 6:30 p.m. Monday through Friday, the bridge need not open. The deviation will be in effect from Monday, January 9, 2012 through Friday, July 6, 2012.

The vertical clearance of this double-leaf bascule bridge in the closed position is 38 feet at Mean High Water and unlimited in the open position. The operating regulation is set forth in 33 CFR 117.541(a) which states that the bridge will open on signal except that from 6:30 a.m. to 9:30 a.m. and 4 p.m. to 6 p.m. the drawbridge need not open except for emergency vessels. Vessels with mast heights less than 38 feet that are able to pass under the bridge in the closed position may do so at any time.

The main users of this waterway are recreational motorboats and sailboats. The waterway users have been notified of the deviation and the Coast Guard has not received any objections. The Coast Guard will inform waterway users of the temporary deviation through our Local and Broadcast Notices to Mariners to minimize any potential impacts caused by the four hour advance notice. The bridge owner will also be required to post signs upstream and downstream of the bridge notifying mariners of the temporary regulation change.

Tender logs provided by the city have shown that this bridge has had minimal openings within the last three years. The bridge will be able to open for emergencies. There are no alternate routes available to vessels.

In accordance with 33 CFR 117.35(e), the drawbridge must return to its regular operating schedule immediately at the end of the designated time period. This deviation from the operating regulations is authorized under 33 CFR 117.35.

Dated: December 14, 2011.
Waverly W. Gregory, Jr.,
Bridge Program Manager, Fifth Coast Guard District.

[FR Doc. 2011-33367 Filed 12-28-11; 8:45 am]

BILLING CODE 9110-04-P